DEPARTMENT OF COMMERCE

International Trade Administration

Renewable Energy and Energy Efficiency Advisory Committee

AGENCY: International Trade Administration, U.S. Department of Commerce.

ACTION: Notice of an Open Meeting.

SUMMARY: The Renewable Energy and Energy Efficiency Advisory Committee (RE&EEAC) will hold a meeting to deliver a letter and 11 recommendations to the Under Secretary of International Trade at the U.S. Department of Commerce and other U.S. Government officials. The letter voices the Committee's support for the International Trade Administration FY2013 budget and suggests items to consider during the proposed reorganization of the U.S. government trade agencies. The recommendations concern the development and administration of programs and policies to enhance the competitiveness of the U.S. renewable energy and energy efficiency industries, including specific challenges associated with exporting. The recommendations focus on four main areas: addressing local content requirements, increasing access to sources of new capital for investment in the U.S. renewable energy and energy efficiency sectors, increasing the speed of the Overseas Private Investment Corporation's decision-making process and boosting public awareness of the resulting benefits to U.S. employment, and improving finance options pertaining to shipping by U.S. renewable energy exporters. The Committee will also provide feedback on their committee activities, which the Department may use in the committee rechartering process for 2012-2014.

DATES: June 14, 2012, from 9:30 a.m. to 4:30 p.m. Eastern Daylight Time (EDT).

ADDRESSES: The meeting will be held at the U.S. Department of Commerce, Room 4830, 1401 Constitution Avenue NW., Washington, DC 20230.

FOR FURTHER INFORMATION CONTACT: Jennifer Derstine, Office of Energy and Environmental Industries (OEEI), International Trade Administration, U.S. Department of Commerce at (202) 482-3889; email: jennifer.derstine@trade.gov. This meeting is physically accessible to people with disabilities. Requests for auxiliary aids should be directed to OEEI at (202) 482-3889.

SUPPLEMENTARY INFORMATION: Background: The Secretary of Commerce established the RE&EEAC pursuant to his discretionary authority and in accordance with the Federal Advisory Committee Act (5 U.S.C. App.) on July 14, 2010. The RE&EEAC provides the Secretary of Commerce with consensus advice from the private sector on the development and administration of programs and policies to enhance the international competitiveness of the U.S. renewable energy and energy efficiency industries. The RE&EEAC held its first meeting on December 7, 2010 and several subsequent meetings to date.

The meeting is open to the public and the room is disabled-accessible. Public seating is limited and available on a first-come, first-served basis. Members of the public wishing to attend the meeting must notify Jennifer Derstine at the contact information above by 5 p.m. EDT on Friday, June 8, in order to pre-register for clearance into the building. Please specify any request for reasonable accommodation at least five business days in advance of the meeting. Last minute requests will be accepted, but may be impossible to fill. A limited amount of time, from 12 p.m. until 12:30 p.m., will be available for pertinent brief oral comments from members of the public attending the meeting.

Any member of the public may submit pertinent written comments concerning the RE&EEAC's affairs at any time before or after the meeting. Comments may be submitted to jennifer.derstine@trade.gov or to the Renewable Energy and Energy Efficiency Advisory Committee, Office of Energy and Environmental Industries (OEEI), International Trade Administration, Room 4053; 1401 Constitution Avenue NW., Washington, DC 20230. To be considered during the meeting, comments must be received no later than 5 p.m. EDT on Friday, June 8, 2012, to ensure transmission to the Committee prior to the meeting. Comments received after that date will be distributed to the members but may not be considered at the meeting.

Copies of RE&EEAC meeting minutes will be available within 30 days of the meeting.

Edward A. O'Malley,
Director, Office of Energy and Environmental Industries.

[FR Doc. 2012-13359 Filed 5-31-12; 8:45 am]

BILLING CODE 3510-DR-P